NUCLEAR REGULATORY COMMISSION

National Materials Program Pilot Project Working Groups; Meetings

AGENCY: Nuclear Regulatory Commission.

ACTION: Notice of formation of working groups and meetings.

SUMMARY: The Nuclear Regulatory Commission (NRC) has formed working groups to examine five pilot projects under the National Materials Program. The working groups will be composed of representatives from the Organization of Agreement States (OAS), the Conference of Radiation Control Program Directors, Inc. (CRCPD), and NRC staff. The direction of the National Materials Program will be guided by the lessons learned and experience gained from the pilot projects.

Efforts to establish a National Materials Program were initiated with NRC Commission approval in 1999. Objectives of this program include: Individual program activities to protect public health and safety; sharing of Federal and State resources to maintain necessary supporting regulations, guidance and other program elements needed for the nationwide materials program; accounting for individual agency needs and abilities; promoting consensus on regulatory priorities; promoting consistent exchange of information; harmonizing regulatory approaches; and recognizing State and Federal needs for flexibility.

DATES: To help ensure coordination and sharing of information with the OAS, the CRCPD, and the public, the working groups will place information regarding the pilot projects and working group meetings at the Office of State and Tribal Programs' Web site at http://www.hsrd.ornl.gov/nrc/home.html.

FOR FURTHER INFORMATION CONTACT: Shawn Rochelle Smith, U.S. Nuclear Regulatory Commission, Office of State and Tribal Programs, Mail Stop: O3-C10, Washington, DC 20555. Telephone: 301-415-2620, E-mail: srs3@nrc.gov.

SUPPLEMENTARY INFORMATION: The goals of the five pilot projects are: (1) Pilot 1—Involvement of Agreement States in the establishment of priorities for development of materials policy, rulemaking, and guidance products in the materials and waste arenas; Chair, Shawn Rochelle Smith, NRC/Office of State and Tribal Programs; (2) Pilot 2—Assumption by CRCPD of lead responsibility for the administration of a national radiographer certification program, including the development of recommendations for follow-up evaluations of program status, and testing and program maintenance activities; Chair, Jan Endahl, Texas Department of Health; (3) Pilot 3—To develop and test a structured process for evaluating cumulative licensee data and performance, identify gaps in NRC and Agreement State processes, and develop strategies and tools to make the programs more scrutable, predictable, and transparent; Chair, Michael Markley, NRC/Office of Nuclear Material Safety and Safeguards; (4) Pilot 4—Assumption by an Agreement State of responsibility for development of licensing and inspection guidance for a new use of material, or a new modality, not previously reviewed and approved; Chair, Kathy Allen, Illinois Department of Nuclear Safety; and (5) Pilot 5—Implementation of specific Phase II recommendations, including ongoing work of the existing working group to draft and pilot test revisions to Inspection Manual Chapter 2800; Chair, Thomas Young, NRC/Office of Nuclear Material Safety and Safeguards.

Dated in Rockville, Maryland, this 23rd day of April, 2003.
For the U.S. Nuclear Regulatory Commission.
Josephine M. Piccone,
Deputy Director, Office of State and Tribal Programs.

[FR Doc. 03-10610 Filed 4-29-03; 8:45 am]

BILLING CODE 7590-01-P